DEPARTMENT OF HEALTH AND HUMAN SERVICES

Administration for Children and Families

Administration fon Children, Youth and Families; Award Announcement

AGENCY: Administration on Children, Youth and Families.

ACTION: Award announcement, Administration for Children and Families, Department of Health and Human Services.

CFDA NO.: 93.616.

SUMMARY: The Administration on Children, Youth and Families, Family and Youth Services Bureau (FYSB), herein announces the awarding of ten supplemental awards in the amount of $1,932,300 to fund Fiscal Year (FY) 2007 Runaway and Homeless Youth Training and Technical Assistance cooperative agreements. The average amount per grantee would be $192,230.

Section 439 of the Social Security Act, as amended by the Child and Family Services Improvement Act of 2006 (Pub. L. 109-288) authorizes the Secretary of Health and Human Services (HHS) to award grants for the purpose of supporting the establishment or expansion and operation of community-based programs to provide one-on-one mentoring relationships between a child of incarcerated parent(s) and a caring, supportive adult mentor under the Mentoring Children of Prisoners Program (MCP). This supplemental funding will be used to access the capacity building expertise of the ten Runaway and Homeless Youth Training and Technical Assistance Providers for the purpose of enhancing the capacity of newly awarded lower scoring community and faith-based MCP grantees. It is expected that the supplementing of the ten RHY Training and Technical Assistance Providers will result in the reduction in program start-up issues and other barriers to high performance.

It is critical that these MCP grantees receive the best possible services as it relates to enhancing their capacity to develop and maintain a quality mentoring program. The following agencies are receiving grant funds for a twelve month project period:

Mid-Atlantic Network of Y&FS, PA | 90CY2175 | 202,500
MINK Network of RHY, MO | 90CY2176 | 157,500
Southwest Network of YS, TX | 90CY2177 | 202,500
Southeastern Network of YFS, AL | 90CY2178 | 216,000
Empire State Coalition of YFS | 90CY2179 | 177,300
Mountain Plains Network for Youth, ND | 90CY2180 | 157,500
New England Network/YFS, MA | 90CY2181 | 198,000
Northwest Network of RHYS, WA | 90CY2182 | 180,000
Youth Network Council, IL | 90CY2183 | 225,000
Western States Youth Svcs, AZ | 90CY2184 | 216,000

FOR FURTHER INFORMATION CONTACT: Curtis O. Porter, Acting Associate Commissioner, Family and Youth Services Bureau, ACYF, ACF, DHHS. Portals Building, 1250 Maryland Avenue, SW., Washington, DC 20024; 202-205-8102.

Dated: September 28, 2007.
Susan Orr,
Associate Commissioner, Administration on Children, Youth and Families.

[FR Doc. E7-19881 Filed 10-9-07; 8:45 am]

BILLING CODE 4184-01-P